GENERAL SERVICES ADMINISTRATION

[Notice-PBS-2018-13; Docket No. 2018-0002; Sequence No. 33]

Notice of Availability for the Record of Decision of the Environmental Impact Statement for the Proposed Master Plan for the Consolidation of the U.S. Food and Drug Administration Headquarters at the Federal Research Center at White Oak, located in Silver Spring, MD

AGENCY: Public Buildings Service, National Capital Region, General Services Administration (GSA).

ACTION: Notice of availability for the Record of Decision of the FDA Headquarters Master Plan Environmental Impact Statement.

SUMMARY: GSA issued a Record of Decision (ROD) for the 2018 Master Plan for the Consolidation of the U.S. Food and Drug Administration (FDA) at the Federal Research Center at White Oak, located in Silver Spring, Maryland, on November 14, 2018. The ROD was prepared in accordance with the National Environmental Policy Act (NEPA) of 1969, the Council on Environmental Quality Regulations, and the GSA Public Buildings Service NEPA Desk Guide.

DATES: Applicable: Friday, November 30, 2018.

FOR FURTHER INFORMATION CONTACT: Paul Gyamfi, GSA, National Capital Region, Public Buildings Service, Office of Planning and Design Quality, at 202-440-3405. Please contact this number if special assistance is needed to attend and participate in the scoping meeting.

Background

GSA, in cooperation with the U.S. Food and Drug Administration (FDA), has prepared a Master Plan for the consolidation of the FDA headquarters facilities at the Federal Research Center at White Oak (FRC) in Silver Spring, Maryland. The FDA headquarters currently encompasses a 130-acre piece of the FRC, now known as the FDA Campus.

In the fiscal year 2016, Congress provided funding “for FDA to complete a feasibility study and Master Plan for land inside and contiguous to the White Oak campus to address its expanded workforce and the facilities needed to accommodate them.” On August 3, 2017, Congress passed the FDA Reauthorization Act (FDARA) of 2017. This new legislation reauthorized the user fee programs necessary for continued support of the agency's pre-market evaluation of prescription drugs, medical devices, generic drugs, and biosimilar products.

Due to these Congressional mandates, FDA is projecting that there will need to be an increase in employees and campus support staff at the FDA Campus. Therefore, GSA has prepared a Master Plan to accommodate future growth and further consolidate FDA operations. The Master Plan will provide a framework for development at the FRC to accommodate up to approximately 18,000 FDA employees and support staff. GSA completed an Environmental Impact Statement (EIS) that assessed the impacts of the population increase and additional growth needed on the FRC to support the increased population.

Preferred Alternative

GSA has chosen to implement Alternative C: Two Large Tower Buildings, as defined in the Final Environmental Impact Statement (EIS) (GSA, September 2018). This decision is based on analyses contained in the 2018 FDA Master Plan Draft EIS issued in March 2018, the 2018 FDA Master Plan Final EIS issued in September 2018, the Memorandum of Agreement (MOA) executed on November 7, 2018, and the comments of Federal and State agencies, stakeholder organizations, members of the public, and elected officials, and other information in the Administrative Record.

Alternative C includes an additional 1,602,371 gross square feet (gsf) of office space and 318,253 gsf of special/shared use space that will be added to the FDA Campus to support FDA's mission for a total of up to 5,687,229 gsf of office, shared, and special use spaces. The East Loop Road will be reconfigured to allow for ease of circulation and access into and out of the FDA Campus. The reconfigured East Loop Road will circle around the new office buildings proposed on the east side of the FDA Campus and will connect with Dalghren Road. At Blandy Road and FDA Boulevard, a new traffic circle will be constructed that will connect it with the Southeast Loop Road. The Southeast Loop Road will circle around the southeast parking garage and connect to the existing Southwest Loop Road that will be reconfigured for the connection.

GSA has chosen to implement Alternative C. Alternative C will also consist of the following:

• Three new office buildings ranging from 8 to 16 stories, placed on the eastern end of the FDA Campus, and one new office building, placed on the western part of the FDA Campus adjacent to Building 22;

• 7,342 additional parking spaces within three new parking garages;

• A Distribution Center will be constructed adjacent to the northeast parking garage;

• A Truck Screening Facility will be constructed at the entrance to the FDA Campus on Michelson Road:

• A new Transit Center will be located on the existing northwest surface lots;

• A free-standing dining facility will be constructed on the plaza near the new buildings:

• A Communications Center will be placed with the new buildings on the eastern end of the campus;

• The plaza will be extended to facilitate a walkable campus; and

• A Conference Center will be placed on the northwest quadrant and existing main campus.

Location of Record of Decision

The ROD can be found on GSA's project website at www.gsa.gov/ncrnepa.

Dated: November 20, 2018.
Mina Wright,
Director, Office of Planning and Design Quality, Public Buildings Service, National Capital Region, General Services Administration.

[FR Doc. 2018-25887 Filed 11-26-18; 8:45 am]

BILLING CODE 6820-Y1-P